DEPARTMENT OF COMMERCE

National Oceanic and Atmospheric Administration

50 CFR Part 665

[Docket No. 090218199-91223-02]

RIN 0648-AX38

Fisheries in the Western Pacific; Pelagic Fisheries; Vessel Identification Requirements; Correction

AGENCY: National Marine Fisheries Service (NMFS), National Oceanic and Atmospheric Administration (NOAA), Commerce.

ACTION: Final rule; correction.

SUMMARY: This action corrects the effective date of final regulations published in the Federal Register on January 21, 2010, from February 22, 2010, to April 21, 2010. The rule revises identification requirements for U.S. vessels that fish for pelagic management unit species in the western and central Pacific Ocean. Each vessel is required to display its International Telecommunication Union Radio Call Sign (IRCS) or, if an IRCS has not been assigned, its official number preceded by the characters “USA-”. The rule makes Federal vessel identification requirements consistent with international requirements.

DATES: The effective date of the final regulations published in the Federal Register on January 21, 2010, at 75 FR 3416, is April 21, 2010.

FOR FURTHER INFORMATION CONTACT: Jarad Makaiau, NMFS Pacific Islands Region, 808-944-2108.

SUPPLEMENTARY INFORMATION:

Need for Correction

In the document published January 21, 2010 (75 FR 3416), under the DATES section, the effective date of the final rule was miscalculated. This document corrects the effective date to read as follows:

DATES: This final rule is effective April 21, 2010.

Authority: 16 U.S.C. 1801 et seq.

Dated: February 12, 2010.
Samuel D. Rauch III,
Deputy Assistant Administrator for Regulatory Programs, National Marine Fisheries Service.

[FR Doc. 2010-3074 Filed 2-17-10; 8:45 am]

BILLING CODE 3510-22-S